DEPARTMENT OF COMMERCE

National Oceanic and Atmospheric Administration

50 CFR Part 660

[Docket No. 130123065-4999-02]

RIN 0648-BC95

Fisheries Off West Coast States; West Coast Salmon Fisheries; Amendment 18 to the Salmon Fishery Management Plan

AGENCY: National Marine Fisheries Service (NMFS), National Oceanic and Atmospheric Administration (NOAA), Commerce.

ACTION: Final rule.

SUMMARY: NMFS issues a final rule under authority of the Magnuson-Stevens Fishery Conservation and Management Act (MSA) to implement Amendment 18 to the Pacific Coast Salmon Fishery Management Plan for Commercial and Recreational Salmon Fisheries off the Coasts of Washington, Oregon, and California (FMP). Amendment 18 revises the description and identification of essential fish habitat (EFH) for Pacific salmon managed under the FMP, designates habitat areas of particular concern (HAPCs), updates information on fishing activities, and updates the list of non-fishing related activities that may adversely affect EFH and potential conservation and enhancement measures to minimize those effects. NMFS approved Amendment 18 on September 12, 2014.

DATES: This final rule is effective January 20, 2015.

ADDRESSES: This final rule is accessible on the Web site of NMFS' West Coast Region (http://www.westcoast.fisheries.noaa.gov). The current FMP, through Amendment 18, is available on the Pacific Fishery Management Council's Web site (http://www.pcouncil.org/).

FOR FURTHER INFORMATION CONTACT: Peggy Mundy at 206-526-4323.

SUPPLEMENTARY INFORMATION: The Pacific Fishery Management Council (Council) developed Amendment 18 in compliance with the MSA's requirement to periodically review EFH provisions, and to revise or amend those provisions, as warranted, based on available information (50 CFR 600.815(a)(10)). The Council took final action on Amendment 18 in September 2013 and transmitted the amendment to NMFS on June 10, 2014. Alternatives considered in the development of Amendment 18 were analyzed in a draft Environmental Assessment (EA). NMFS published a notice of availability of Amendment 18 in the Federal Register (79 FR 34272, June 16, 2014) to notify the public of the availability of the amendment and draft EA, and invite comments. NMFS published a proposed rule in the Federal Register (79 FR 56547, September 22, 2014) to notify the public and invite comments. NMFS received no comments in response to either the notice of availability or the proposed rule.

Amendment 18 revises the description and identification of EFH for Pacific salmon managed under the FMP, designates HAPCs, updates the current information on fishing activities, and updates the list of non-fishing related activities that may adversely affect EFH and potential conservation and enhancement measures to minimize those effects. The details of Amendment 18 were described in the proposed rule (79 FR 56547, September 22, 2014) and are not repeated here. This final rule identifies changes to the regulations under 50 CFR 660 subpart H to implement Amendment 18 and describes changes made from the proposed rule.

Response to Comments

NMFS received no comments on the proposed rule. The Department of the Interior submitted a letter stating that they had no comments.

Changes From Proposed Rule

This final rule includes changes to the existing regulations at 50 CFR 660.412 to implement Amendment 18. These are largely unchanged from the proposed rule; those that have changed from the proposed rule are described below.

Table 1 to Subpart H of Part 660

Three table cells that were inadvertently left blank in the proposed rule have been corrected to identify EFH designations in hydrologic units 17100207, 17110012, and 17110016.

Classification

Pursuant to section 304(b)(1)(A) of the MSA, the NMFS Assistant Administrator has determined that this final rule is consistent with Amendment 18, the Pacific Salmon Fishery Management Plan, the MSA, and other applicable law.

This final rule has been determined to be not significant for purposes of Executive Order 12866.

An EA has been prepared for Amendment 18; a copy of the EA is available online at http://www.pcouncil.org/. The EA includes a regulatory impact review (RIR) prepared by NMFS.

The Chief Counsel for Regulation of the Department of Commerce certified to the Chief Counsel for Advocacy of the Small Business Administration, at the proposed rule stage, that this rule would not have a significant economic impact on a substantial number of small entities. No comments were received on this certification, and no new information has been received concerning the economic impact of this rule. As a result, no Final Regulatory Flexibility Analysis is required, and none has been prepared. NMFS will conduct the appropriate analyses for any subsequent rulemakings stemming from this final rule.

This final rule would not establish any new reporting or recordkeeping requirements. This final rule does not include a collection of information. No Federal rules have been identified that duplicate, overlap, or conflict with this action.

This action is not expected to have adverse effects on any ESA-listed species or critical habitat. As described in the EA for Amendment 18, this action may have minimal effects on ESA-listed species in freshwater areas where EFH designations would change slightly under the preferred alternative. NMFS has consulted with itself under ESA section 7 and prepared a memo concluding that implementation of the preferred alternative is not likely to adversely affect any listed species or critical habitat.

This final rule was developed after meaningful collaboration with the affected tribes, through the PFMC process. Under the MSA at 16 U.S.C. 1852(b)(5), one of the voting members of the PFMC must be a representative of an Indian Tribe with Federally recognized fishing rights from the area of the PFMC's jurisdiction.

List of Subjects in 50 CFR Part 660

Fisheries, Fishing, Recordkeeping and reporting requirements.

Dated: December 11, 2014.
Samuel D. Rauch III,
Deputy Assistant Administrator for Regulatory Programs, National Marine Fisheries Service.

For the reasons set out in the preamble, NMFS amends 50 CFR part 660 as follows:

PART 660—FISHERIES OFF WEST COAST STATES

1. The authority citation for part 660 continues to read as follows:

Authority: 16 U.S.C. et seq. and 16 U.S.C. 773 et seq.

2. Section 660.412 is revised to read as follows:

§ 660.412 EFH identifications and descriptions for Pacific salmon.

Essential fish habitat (EFH) is identified for anadromous Pacific salmon stocks managed by the Pacific Fishery Management Council (PFMC) under the Pacific Coast Salmon Fishery Management Plan (FMP). These managed salmon include most of the Chinook salmon (Oncorhynchus tshawytscha) stocks and all of the coho salmon (O. kisutch) stocks from Washington, Oregon, Idaho, and California; as well as pink salmon (O. gorbuscha) stocks originating from watersheds within Puget Sound east of, and including, the Elwha River. The geographic extent of freshwater EFH is specifically identified in the FMP as all water bodies currently or historically occupied by PFMC-managed salmon in Washington, Oregon, Idaho, and California; including aquatic areas above all artificial barriers that are not specifically excluded. Freshwater EFH, identified in Table 1 of this subpart H, is described using fourth field hydrologic unit codes developed by the U.S. Geological Survey (defined in U.S. Geological Survey and U.S. Department of Agriculture, Natural Resources Conservation Service: Federal guidelines, requirements, and procedures for the national Watershed Boundary Dataset: U.S. Geological Survey Techniques and Methods 11-A3, 2009). Table 1 also identifies the dams that represent the upstream extent of EFH in each hydrologic unit.

(a) Chinook salmon EFH includes all water bodies currently or historically occupied by PFMC-managed Chinook salmon in Washington, Oregon, Idaho, and California as identified in Table 1 of this subpart. Chinook salmon EFH also includes the estuarine and marine areas extending from the extreme high tide line in nearshore and tidal submerged environments within state territorial waters out to the full extent of the exclusive economic zone (EEZ) (200 nautical miles) offshore of Washington, Oregon, and California north of Point Conception; and the marine areas of Alaska that are designated as Chinook salmon EFH by the North Pacific Fishery Management Council (NPFMC), for stocks that are also managed by the PFMC.

(b) Coho salmon EFH includes all water bodies currently or historically occupied by PFMC-managed coho salmon in Washington, Oregon, Idaho, and California as identified in Table 1 of this subpart. Coho salmon EFH also includes the estuarine and marine areas extending from the extreme high tide line in nearshore and tidal submerged environments within state territorial waters out to the full extent of the EEZ (200 nautical miles) offshore of Washington, Oregon, and California north of Point Conception; and the marine areas of Alaska that are designated as coho salmon EFH by the NPFMC, for stocks that are also managed by the PFMC.

(c) Puget Sound pink salmon EFH includes all water bodies currently or historically occupied by PFMC-managed Puget Sound pink salmon in Washington State as identified in Table 1 of this subpart. Puget Sound pink salmon EFH also includes the estuarine and marine areas extending from the extreme high tide line in nearshore and tidal submerged environments within state territorial waters north and east of Cape Flattery, Washington, including Puget Sound, the Strait of Juan de Fuca and Strait of Georgia; the waters of the U.S. EEZ north of 48° N latitude to the U.S.-Canada border; and marine areas of Alaska that are designated as pink salmon EFH by the NPFMC, for stocks that are also managed by the PFMC.

3. Table 1 to Subpart H of Part 600 is revised to read as follows:

Table 1 to Subpart H of Part 660—Pacific Salmon EFH Identified by USGS Hydrologic Unit Code (HUC)
4th Field hydrologic unit code | Hydrologic unit name | State(s) | Chinook salmon | Coho salmon | Puget Sound pink salmon | Impassable dam(s)
17020005 | Chief Joseph | WA | X | X |  | Chief Joseph Dam.
17020006 | Okanogan | WA | X |  |  | n/a.
17020007 | Similkameen | WA | X |  |  | n/a.
17020008 | Methow | WA | X | X |  | n/a.
17020009 | Lake Chelan | WA | X |  |  | n/a.
17020010 | Upper Columbia-Entiat | WA | X | X |  | n/a.
17020011 | Wenatchee | WA | X | X |  | n/a.
17020012 | Moses Coulee | WA | X | X |  | n/a.
17020015 | Lower Crab | WA | X |  |  | n/a.
17020016 | Upper Columbia-Priest Rapids | WA | X | X |  | n/a.
17030001 | Upper Yakima | WA | X | X |  | Keechelus Dam Kachess Dam (Kachess River).
17030002 | Naches | WA | X | X |  | Rimrock Dam (Tieton River).
17030003 | Lower Yakima | WA | X | X |  | n/a.
17060101 | Hells Canyon | OR/ID | X |  |  | Hells Canyon Dam.
17060102 | Imnaha River | OR/ID | X |  |  | n/a.
17060103 | Lower Snake-Asotin | OR/WA/ID | X | X |  | n/a.
17060104 | Upper Grande Ronde River | OR | X | X |  | n/a.
17060105 | Wallowa River | OR | X | X |  | n/a.
17060106 | Lower Grande Ronde | OR/WA | X | X |  | n/a.
17060107 | Lower Snake-Tucannon | WA | X | X |  | n/a.
17060108 | Palouse River | WA | X |  |  | n/a.
17060110 | Lower Snake River | WA | X | X |  | n/a.
17060201 | Upper Salmon | ID | X |  |  | n/a.
17060202 | Pahsimeroi | ID | X |  |  | n/a.
17060203 | Middle Salmon-Panther | ID | X |  |  | n/a.
17060204 | Lemhi | ID | X |  |  | n/a.
17060205 | Upper Middle Fork Salmon | ID | X |  |  | n/a.
17060206 | Lower Middle Fork Salmon | ID | X |  |  | n/a.
17060207 | Middle Salmon-Chamberlain | ID | X |  |  | n/a.
17060208 | South Fork Salmon | ID | X |  |  | n/a.
17060209 | Lower Salmon | ID | X |  |  | n/a.
17060210 | Little Salmon | ID | X |  |  | n/a.
17060301 | Upper Selway | ID | X | X |  | n/a.
17060302 | Lower Selway | ID | X | X |  | n/a.
17060303 | Lochsa | ID | X |  |  | n/a.
17060304 | Middle Fork Clearwater | ID | X | X |  | n/a.
17060305 | South Fork Clearwater | ID | X | X |  | n/a.
17060306 | Clearwater | WA/ID | X | X |  | n/a.
17060308 | Lower North Fork Clearwater | ID | X |  |  | Dworshak Dam.
17070101 | Middle Columbia-Lake Wallula | OR/WA | X | X |  | n/a.
17070103 | Umatilla | OR | X | X |  | McKay Dam (McKay Creek).
17070105 | Middle Columbia-Hood | OR/WA | X | X |  | n/a.
17070106 | Klickitat | WA | X | X |  | n/a.
17070306 | Lower Deschutes | OR | X | X |  | n/a.
17080001 | Lower Columbia-Sandy | OR/WA | X | X |  | Bull Run Dam #2.
17080002 | Lewis | WA | X | X |  | n/a.
17080003 | Lower Columbia-Clatskanie | OR/WA | X | X |  | n/a.
17080004 | Upper Cowlitz | WA | X | X |  | n/a.
17080005 | Cowlitz | WA | X | X |  | n/a.
17080006 | Lower Columbia | OR/WA | X | X |  | n/a.
17090001 | Middle Fork Willamette | OR | X |  |  | n/a.
17090002 | Coast Fork Willamette | OR | X |  |  | Dorena Dam.
17090003 | Upper Willamette | OR | X | X |  | n/a.
17090004 | McKenzie | OR | X | X |  | Cougar Dam.¹
17090005 | North Santiam | OR | X | X |  | Big Cliff Dam.²
17090006 | South Santiam | OR | X | X |  | n/a.
17090007 | Middle Willamette | OR | X | X |  | n/a.
17090008 | Yamhill | OR | X | X |  | n/a.
17090009 | Molalla-Pudding | OR | X | X |  | n/a.
17090010 | Tualatin | OR | X | X |  | n/a.
17090011 | Clackamas | OR | X | X |  | n/a.
17090012 | Lower Willamette | OR | X | X |  | n/a.
17100101 | Hoh-Quillayute | WA | X | X |  | n/a.
17100102 | Queets-Quinault | WA | X | X |  | n/a.
17100103 | Upper Chehalis | WA | X | X |  | n/a.
17100104 | Lower Chehalis | WA | X | X |  | n/a.
17100105 | Grays Harbor | WA | X | X |  | n/a.
17100106 | Willapa | WA | X | X |  | n/a.
17100201 | Necanicum | OR | X | X |  | n/a.
17100202 | Nehalem | OR | X | X |  | n/a.
17100203 | Wilson-Trask-Nestucca | OR | X | X |  | n/a.
17100204 | Siletz-Yaquina | OR | X | X |  | n/a.
17100205 | Alsea | OR | X | X |  | n/a.
17100206 | Siuslaw | OR | X | X |  | n/a.
17100207 | Siltcoos | OR |  | X |  | n/a.
17100301 | North Umpqua | OR | X | X |  | n/a.
17100302 | South Umpqua | OR | X | X |  | n/a.
17100303 | Umpqua | OR | X | X |  | n/a.
17100304 | Coos | OR | X | X |  | n/a.
17100305 | Coquille | OR | X | X |  | n/a.
17100306 | Sixes | OR | X | X |  | n/a.
17100307 | Upper Rogue | OR | X | X |  | Lost Creek Dam.
17100308 | Middle Rogue | OR | X | X |  | Emigrant Dam.
17100309 | Applegate | CA/OR | X | X |  | Applegate Dam.
17100310 | Lower Rogue | OR | X | X |  | n/a.
17100311 | Illinois | CA/OR | X | X |  | n/a.
17100312 | Chetco | CA/OR | X | X |  | n/a.
17110001 | Fraser | WA | X | X |  | n/a.
17110002 | Strait Of Georgia | WA | X | X | X | n/a.
17110003 | San Juan Islands | WA |  | X |  | n/a.
17110004 | Nooksack | WA | X | X | X | n/a.
17110005 | Upper Skagit | WA | X | X | X | Gorge Lake Dam.
17110006 | Sauk | WA | X | X | X | n/a.
17110007 | Lower Skagit | WA | X | X | X | n/a.
17110008 | Stillaguamish | WA | X | X | X | n/a.
17110009 | Skykomish | WA | X | X | X | n/a.
17110010 | Snoqualmie | WA | X | X | X | Tolt Dam (S. Fork Tolt River).
17110011 | Snohomish | WA | X | X | X | n/a.
17110012 | Lake Washington | WA | X | X |  | Cedar Falls (Masonry) Dam (Cedar River).
17110013 | Duwamish | WA | X | X | X | n/a.
17110014 | Puyallup | WA | X | X | X | n/a.
17110015 | Nisqually | WA | X | X | X | n/a.
17110016 | Deschutes | WA | X | X |  | n/a.
17110017 | Skokomish | WA | X | X | X | n/a.
17110018 | Hood Canal | WA | X | X | X | n/a.
17110019 | Puget Sound | WA | X | X | X | n/a.
17110020 | Dungeness-Elwha | WA | X | X | X | n/a.
17110021 | Crescent-Hoko | WA | X | X |  | n/a.
18010101 | Smith River | CA/OR | X | X |  | n/a.
18010102 | Mad-Redwood | CA | X | X |  | Robert W. Matthews Dam.
18010103 | Upper Eel | CA | X | X |  | Scott Dam.
18010104 | Middle Fork Eel | CA | X | X |  | n/a.
18010105 | Lower Eel | CA | X | X |  | n/a.
18010106 | South Fork Eel | CA | X | X |  | n/a.
18010107 | Mattole | CA | X | X |  | n/a.
18010108 | Big-Navarro-Garcia | CA | X | X |  | n/a.
18010109 | Gualala-Salmon | CA | X | X |  | n/a.
18010110 | Russian | CA | X | X |  | Coyote Valley Dam (E. Fork Russian R.) Warm Springs Dam (Dry Cr.).
18010206 | Upper Klamath | CA/OR | X | X |  | Keno Dam.
18010207 | Shasta | CA | X | X |  | Dwinnell Dam.
18010208 | Scott | CA | X | X |  | n/a.
18010209 | Lower Klamath | CA/OR | X | X |  | n/a.
18010210 | Salmon | CA | X | X |  | n/a.
18010211 | Trinity | CA | X | X |  | Lewiston Dam.
18010212 | South Fork Trinity | CA | X | X |  | n/a.
18020104 | Sacramento-Stone Corral | CA | X |  |  | n/a.
18020111 | Lower American | CA | X |  |  | Nimbus Dam.
18020115 | Upper Stony | CA | X |  |  | Black Butte Dam.
18020116 | Upper Cache | CA | X |  |  | Capay Dam.³
18020125 | Upper Yuba | CA | X |  |  | n/a.
18020126 | Upper Bear | CA | X |  |  | Camp Far West Dam.
18020151 | Cow Creek | CA | X |  |  | n/a.
18020152 | Cottonwood Creek | CA | X |  |  | n/a.
18020153 | Battle Creek | CA | X |  |  | n/a.
18020154 | Clear Creek-Sacramento River | CA | X |  |  | Keswick Dam (Sacramento R.), Whiskeytown Dam (Clear Creek).
18020155 | Paynes Creek-Sacramento River | CA | X |  |  | n/a.
18020156 | Thomes Creek-Sacramento River | CA | X |  |  | n/a.
18020157 | Big Chico Creek-Sacramento River | CA | X |  |  | n/a.
18020158 | Butte Creek | CA | X |  |  | n/a.
18020159 | Honcut Headwaters-Lower Feather | CA | X |  |  | Feather River Fish Barrier Dam.
18020161 | Upper Coon-Upper Auburn ⁴ | CA | X |  |  | n/a.
18020162 | Upper Putah | CA | X |  |  | Monticello Dam.
18020163 | Lower Sacramento | CA | X |  |  | n/a.
18040001 | Middle San Joaquin-Lower Chowchilla ⁵ | CA | X |  |  | Buchanan Dam (Chowchilla River), Bear Dam (Bear Creek), Owens Dam (Owens Creek) Mariposa Dam.
18040002 | Lower San Joaquin River ⁵ | CA | X |  |  | n/a.
18040003 | San Joaquin Delta | CA | X |  |  | n/a.
18040007 | Fresno River | CA | X |  |  | Hidden Dam.
18040008 | Upper Merced | CA | X |  |  | Crocker-Huffman Diversion Dam.
18040009 | Upper Tuolumne | CA | X |  |  | La Grange Dam (Tuolumne R.).
18040010 | Upper Stanislaus | CA | X |  |  | Goodwin Dam.
18040011 | Upper Calaveras | CA | X |  |  | New Hogan Dam.
18040012 | Upper Mokelumne | CA | X |  |  | Camanche Dam.
18040013 | Upper Cosumnes | CA | X |  |  | n/a.
18050001 | Suisun Bay | CA | X |  |  | n/a.
18050002 | San Pablo Bay | CA | X | X |  | San Pablo Dam (San Pablo Cr.).
18050003 | Coyote | CA | X | X |  | LeRoy Anderson Dam.
18050004 | San Francisco Bay | CA | X | X |  | n/a.
18050005 | Tomales-Drake Bays | CA | X | X |  | Nicasio Dam (Nicasio Cr.) Peters Dam (Lagunitas Cr.).
18050006 | San Francisco Coastal South | CA |  | X |  | n/a.
18060015 | Monterey Bay ⁶ | CA |  | X |  | Newell Dam (Newell Cr.)
¹ Cougar Dam is a barrier to coho salmon only. Chinook salmon are trapped and hauled above the dam.
² Big Cliff Dam is a barrier to coho salmon only. Chinook salmon are trapped and hauled above the dam.
³ Capay Dam was selected as the upstream extent of EFH because it was identified as a complete barrier by NMFS biologists and is located in the vicinity of the historical upstream extent of Chinook salmon distribution.
⁴ Natural “lower falls” are downstream of any artificial barriers that would meet the criteria for designating them as the upstream extent of EFH; therefore, the upstream extent of EFH within this HU is at the “lower falls”.
⁵ EFH for Chinook salmon in the Middle San Joaquin-Lower Chowchilla HU (18040001) and Lower San Joaquin River HU (18040002) includes the San Joaquin River, its eastern tributaries, and the lower reaches of the western tributaries. Although there is no evidence of current or historical Chinook salmon distribution in the western tributaries (Yoshiyama et al. 2001), the lower reaches of these tributaries could provide juvenile rearing habitat or refugia from high flows during floods as salmon migrate along the mainstem in this area.
⁶ EFH for coho salmon in the Monterey Bay HU does not include the sections south of the Pajaro HU (18060002).

[FR Doc. 2014-29557 Filed 12-17-14; 8:45 am]

BILLING CODE 3510-22-P